COMMISSION ON CIVIL RIGHTS

Notice of Public Meeting of the Hawai'i Advisory Committee; Correction

AGENCY: Commission on Civil Rights.

ACTION: Notice; correction.

SUMMARY: The Commission on Civil Rights published a notice in the Federal Register on Friday, September 18, 2020, concerning a meeting of the Hawai'i Advisory Committee. The document contained an incorrect day of the week, which now has changed to Monday the correct day of the week.

FOR FURTHER INFORMATION CONTACT: Angelica Trevino, (202) 695-8935, atrevino@usccr.gov.

SUPPLEMENTARY INFORMATION:

Correction

In the Federal Register of Friday, September 18, 2020, in FR Doc. 2020-20598, on page 58332, second column of 58332, correct the day of the week to Monday, September 28, 2020.

Dated: September 19, 2020.
David Mussatt,
Supervisory Chief, Regional Programs Unit.

[FR Doc. 2020-21057 Filed 9-23-20; 8:45 am]

BILLING CODE P